DEPARTMENT OF COMMERCE

Patent and Trademark Office

Privacy Act of 1974; System of Records

AGENCY: United States Patent and Trademark Office, Commerce.

ACTION: Notice of proposed new Privacy Act system of records.

SUMMARY: In accordance with the requirements of the Privacy Act of 1974, as amended, the United States Patent and Trademark Office (USPTO) gives notice of a proposed new system of records entitled “COMMERCE/PAT-TM-20 Customer Call Center, Assistance and Satisfaction Survey Records.” We invite the public to comment on the system announced in this publication.

DATES: Written comments must be received no later than August 31, 2007. The proposed system of records will be effective on August 31, 2007, unless the USPTO receives comments that would result in a contrary determination.

ADDRESSES: You may submit written comments by any of the following methods:

E-mail: Susan.Fawcett@uspto.gov.

Fax: (571) 273-0112, marked to the attention of Susan Fawcett.

Mail: Susan K. Fawcett, Records Officer, Office of the Chief Information Officer, Customer Information Services Group, Public Information Services Division, United States Patent and Trademark Office, P.O. Box 1450, Alexandria, VA 22313-1450.

All comments received will be available for public inspection at the Public Search Facilities, Madison East—1st Floor, 600 Dulany Street, Alexandria, VA 22314.

FOR FURTHER INFORMATION CONTACT: Manager, Patent Electronic Business Center, SIRA, United States Patent and Trademark Office, P.O. Box 1450, Alexandria, VA 22313-1450, (571) 272-2723.

SUPPLEMENTARY INFORMATION: The United States Patent and Trademark Office (USPTO) is giving notice of a new system of records that is subject to the Privacy Act of 1974. The proposed system of records will maintain information on individuals who request information or assistance through the agency's telephone support system or customer service centers.

The proposed new system of records, “COMMERCE/PAT-TM-20 Customer Call Center, Assistance and Satisfaction Survey Records,” is published in its entirety below.

COMMERCE/PAT-TM-20

System name:

Customer Call Center, Assistance and Satisfaction Survey Records.

Security classification:

Unclassified.

System location:

Office of the Chief Information Officer, United States Patent and Trademark Office, 600 Dulany Street, Alexandria, VA 22314.

Categories of individuals covered by the system:

Members of the public, employees, contractors, and other individuals requesting information or assistance through the agency call centers and customer service centers.

Categories of records in the system:

Customer name, company name, e-mail address, telephone and fax numbers, mailing address, date and time of contact, agent name, customer number, description and resolution of the problem or request, customer contact experience and satisfaction, service recommendations, and desire to be contacted to discuss survey results.

Authority for maintenance of the system:

5 U.S.C. 301, 35 U.S.C. 2, and E.O. 12862.

Purpose(s):

To carry out the duties of the USPTO as outlined in 35 U.S.C. concerning the dissemination of information, i.e., facilitating communications and providing quality assistance services upon individual user request. This system serves as a controlled repository for call center and customer data. The USPTO also uses this information to obtain customer feedback concerning their service experience and the level of satisfaction provided by the agency's Electronic Business Center.

Routine uses of records maintained in the system, including categories of users and the purposes of such uses:

See Prefatory Statement of General Routine Uses Nos. 1-5, 9-10, and 12-13, as found at 46 FR 63501-63502 (December 31, 1981). The USPTO may use the information contained in this system of records to contact customers regarding their survey responses and comments.

Disclosure to consumer reporting agencies:

Not applicable.

Policies and practices for storing, retrieving, accessing, retaining, and disposing of records in the system:

Storage:

On electronic media.

Retrievability:

By individual's name or other identifier such as e-mail address or telephone number.

Safeguards:

Maintained in areas accessible only to authorized personnel in a building protected by security guards during nonbusiness hours. Systems are password protected.

Retention and disposal:

Records retention and disposal is in accordance with the series record schedules.

System manager(s) and address:

Manager, Patent Electronic Business Center, SIRA, United States Patent and Trademark Office, P.O. Box 1450, Alexandria, VA 22313-1450.

Notification procedure:

Information may be obtained from the Manager, Patent Electronic Business Center, SIRA, United States Patent and Trademark Office, P.O. Box 1450, Alexandria, VA 22313-1450. Requesters should provide their names in accordance with the inquiry provisions appearing in 37 CFR part 102 subpart B.

Record access procedures:

Requests from individuals should be addressed to the same address as stated in the notification section above.

Contesting record procedures:

The rules for access, contesting contents, and appealing initial determinations by the individual concerned appear in 37 CFR part 102 subpart B. Requests from individuals should be addressed to the same address as stated in the notification section above.

Record source categories:

Subject individuals and those authorized by the individual to furnish information.

Exemptions claimed for the system:

None.

Dated: July 25, 2007.
Susan K. Fawcett,
Records Officer, USPTO, Office of the Chief Information Officer, Customer Information Services Group, Public Information Services Division.

[FR Doc. E7-14865 Filed 7-31-07; 8:45 am]

BILLING CODE 3510-16-P